DEPARTMENT OF COMMERCE

National Oceanic and Atmospheric Administration

50 CFR Part 648

[Docket No. 070717340-7550-01]

RIN 0648-AV40

Fisheries of the Northeastern United States; Atlantic Mackerel, Squid, and Butterfish Fisheries; Specifications and Management Measures

AGENCY: National Marine Fisheries Service (NMFS), National Oceanic and Atmospheric Administration (NOAA), Commerce.

ACTION: Proposed rule, reopening of comment period.

SUMMARY: NMFS reopens the comment period on the proposed rule to implement 2008 specifications and management measures for Atlantic mackerel, squid, and butterfish (MSB) fisheries for 7 days.

DATES: The deadline for written comments on the December 28, 2007 (72 FR 73749), proposed rule is reopened to no later than 5 p.m. on February 5, 2008.

ADDRESSES: You may submit comments, identified by RIN 0648-AV40, by any one of the following methods:

• Electronic Submissions: Submit all electronic public comments via the Federal e-Rulemaking portal http://www.regulations.gov;

• Fax: (978) 281-9135, Attn: Carrie Nordeen;

• Mail to Patricia A. Kurkul, Regional Administrator, NMFS, Northeast Regional Office, One Blackburn Drive, Gloucester, MA 01930. Mark the outside of the envelope “Comments on 2008 MSB Specifications”.

Instructions: All comments received are a part of the public record and will generally be posted to http://www.regulations.gov without change. All Personal Identifying Information (e.g., name, address, etc.) voluntarily submitted by the commenter may be publicly accessible. Do not submit Confidential Business Information or otherwise sensitive or protected information. NMFS will accept anonymous comments. Attachments to electronic comments will be accepted in Microsoft Word, Excel, WordPerfect, or Adobe PDF formats only.

FOR FURTHER INFORMATION CONTACT: Carrie Nordeen, Fishery Policy Analyst, 978- 281-9272, fax 978-281-9135.

SUPPLEMENTARY INFORMATION:

Background

NMFS is required to publish proposed specifications for the MSB fisheries, after reviewing recommendations from the Mid-Atlantic Fishery Management Council (Council). At its June 12-14, 2007, meeting in Hampton, VA, the Council recommended 2008 MSB specifications and management measures. For butterfish, the Council recommended reducing the butterfish quota to levels approximating recent landings while a butterfish rebuilding program is being developed in Amendment 10 to the Atlantic Mackerel, Squid, and Butterfish Fishery Management Plan. Consistent with the lower butterfish quota recommended for 2008, the Council also recommended lowering the butterfish incidental possession limit from 2,500 lb (1.13 mt) per day to a scaled incidental possession limit, such that a 250-lb (0.11-mt) incidental possession limit would be associated with a fishery closure prior to October 1 and a 600-lb (0.27-mt) incidental possession limit would be associated with a fishery closure on or after October 1.

However, incidental possession limits for butterfish apply not only during a fishery closure, but also year-round to vessels issued butterfish incidental possession permits. At its June 2007 meeting, the Council did not explicitly recommend an incidental butterfish possession limit for vessels issued a butterfish incidental catch permit. Therefore, in the proposed rule for the 2008 MSB specifications and management measures (72 FR 73749, December 28, 2007), NMFS proposed a year-round, 250-lb (0.11-mt) butterfish possession limit for vessels issued incidental butterfish catch permits, similar to the Council's recommended incidental butterfish possession limit during a fishery closure, and invited the Council to comment on whether this measure is consistent with the Council's intent.

On January 11, 2008, NMFS received a letter from the Council requesting that NMFS reopen the comment period on the proposed rule for the 2008 MSB specifications and management measures for 7 days. Reopening this comment period will enable the Council to consider the 2008 MSB management measures at its January 29-31, 2008, meeting, and develop a position and formal comments on the butterfish incidental possession limit for vessels issued a butterfish incidental catch permit. Therefore, consistent with the Council's request, NMFS is reopening the comment period on the 2008 MSB specifications and management measures proposed rule to 5 p.m. on February 5, 2008.

Dated: January 24, 2008
Samuel D. Rauch III,
Deputy Assistant Administrator For Regulatory Programs, National Marine Fisheries Service.

[FR Doc. E8-1559 Filed 1-28-08; 8:45 am]

BILLING CODE 3510-22-S